DEPARTMENT OF COMMERCE

International Trade Administration

[A-401-806]

Stainless Steel Wire Rod From Sweden: Notice of Extension of Time Limit for 2004-2005 Administration Review

AGENCY: Import Administration, International Trade Administration, Department of Commerce.

EFFECTIVE DATE: May 2, 2006.

FOR FURTHER INFORMATION CONTACT: Brian Smith, AD/CVD Operations, Office 2, Import Administration, International Trade Administration, U.S. Department of Commerce, 14th Street and Constitution Avenue, NW., Washington, DC 20230; telephone (202) 482-1766.

Statutory Time Limits

Section 751(a)(3)(A) of the Tariff Act of 1930, as amended (“the Act”), requires the Department of Commerce (“Department”) to issue the preliminary results of an administrative review within 245 days after the last day of the anniversary month of an order for which a review is requested and a final determination within 120 days after the date on which the preliminary results are published. If it is not practicable to complete the review within the time period, section 751(a)(3)(A) of the Act allows the Department to extend these deadlines to a maximum of 365 days and 180 days, respectively.

Background

On October 25, 2005, the Department published in the Federal Register a notice of initiation of administrative review of the antidumping duty order on stainless steel wire rod from Sweden, covering the period September 1, 2004, through August 31, 2005. See Initiation of Antidumping and Countervailing Duty Administrative Reviews, 70 FR 61601 (October 25, 2005). The preliminary results for this administration review are currently due no later than June 2, 2006.

Extension of Time Limits for Preliminary Results

The Department requires additional time to review and analyze the sales and cost information submitted by the respondent in this administrative review. Moreover, the Department requires additional time to analyze complex issues related to product comparisons and level of trade, issue additional supplemental questionnaires and fully analyze the responses. Thus, it is not practicable to complete this review within the original time limit (i.e., June 2, 2006). Therefore, the Department is partially extending the time limit for completion of the preliminary results by 60 days to not later than August 1, 2006, in accordance with section 751(a)(3)(A) of the Act.

We are issuing and publishing this notice in accordance with sections 751(a)(1) and 777(i)(1) of the Act.

Dated: April 26, 2006.
Stephen J. Claeys,
Deputy Assistant Secretary for Import Administration.

[FR Doc. E6-6623 Filed 5-1-06; 8:45 am]

Billing Code: 3510-DS-S